Proclamation 9074 of December 31, 2013

National Slavery and Human Trafficking Prevention Month, 2014

By the President of the United States of America

A Proclamation

Over a century and a half after President Abraham Lincoln issued the Emancipation Proclamation, millions remain in bondage—children forced to take part in armed conflict or sold to brothels by their destitute families, men and women who toil for little or no pay, who are threatened and beaten if they try to escape. Slavery tears at our social fabric, fuels violence and organized crime, and debases our common humanity. During National Slavery and Human Trafficking Prevention Month, we renew our commitment to ending this scourge in all its forms.

Because modern-day slavery is a global tragedy, combating it requires international action. The United States is shining a spotlight on the dark corners where it persists, placing sanctions on some of the worst abusers, giving countries incentives to meet their responsibilities, and partnering with groups that help trafficking victims escape from their abusers' grip. We are working with other nations as they step up their own efforts, and we are seeing more countries pass anti-human trafficking laws and improve enforcement.

At home, we are leading by example. My Administration is cracking down on traffickers, charging a record number of perpetrators. We are deploying new technology in the fight against human trafficking, developing the Federal Government's first-ever strategic action plan to strengthen victim services, and strengthening protections against human trafficking in Federal contracts. During the past year, the White House has hosted events on combating human trafficking, bringing together leaders from every sector of society. Together, we came up with new ideas to fight trafficking at the national and grassroots levels.

As we work to dismantle trafficking networks and help survivors rebuild their lives, we must also address the underlying forces that push so many into bondage. We must develop economies that create legitimate jobs, build a global sense of justice that says no child should ever be exploited, and empower our daughters and sons with the same chances to pursue their dreams. This month, I call on every nation, every community, and every individual to fight human trafficking wherever it exists. Let us declare as one that slavery has no place in our world, and let us finally restore to all people the most basic rights of freedom, dignity, and justice.

NOW, THEREFORE, I, BARACK OBAMA, President of the United States of America, by virtue of the authority vested in me by the Constitution and the laws of the United States, do hereby proclaim January 2014 as National Slavery and Human Trafficking Prevention Month, culminating in the annual celebration of National Freedom Day on February 1. I call upon businesses, national and community organizations, faith-based groups, families, and all Americans to recognize the vital role we can play in ending all forms of slavery and to observe this month with appropriate programs and activities.

IN WITNESS WHEREOF, I have hereunto set my hand this thirty-first day of December, in the year of our Lord two thousand thirteen, and of the Independence of the United States of America the two hundred and thirty-eighth.

[FR Doc. 2014-00086

Filed 1-6-14; 8:45 am]

Billing code 3295-F4